OFFICE OF THE UNITED STATES TRADE REPRESENTATIVE

Notice of Effective Date of Modifications to the Harmonized Tariff Schedule of the United States Concerning the Dominican Republic-Central America-United States Free Trade Agreement

AGENCY: Office of the United States Trade Representative.

ACTION: Notice.

SUMMARY: The Office of United States Trade Representative is announcing the effective date of modifications to the Harmonized Tariff Schedule of the United States (HTSUS) concerning the Dominican Republic-Central America-United States Free Trade Agreement (CAFTA-DR).

DATES: This notice is applicable on November 1, 2020.

FOR FURTHER INFORMATION CONTACT: Senior Associate General Counsel Joseph Johnson at (202) 395-2464 or Joseph_M._Johnson@ustr.eop.gov.

SUPPLEMENTARY INFORMATION:

A. Background

Section 1206(a) of the Omnibus Trade and Competitiveness Act of 1988 (1988 Act) (19 U.S.C. 3006(a)) authorizes the President to proclaim modifications to the HTSUS based on the recommendations of the U.S. International Trade Commission (ITC) under section 1205 of the 1988 Act (19 U.S.C. 3005) if the President determines that the modifications conform to U.S. obligations under the International Convention on the Harmonized Commodity Description and Coding System (Convention) and do not run counter to the national economic interest of the United States. The ITC has recommended modifications to the HTSUS pursuant to section 1205 of the 1988 Act to conform the HTSUS to amendments made to the Convention.

Proclamation 7987 of February 28, 2006, implemented the CAFTA-DR with respect to the United States and, pursuant to section 201 of the CAFTA-DR Implementation Act (19 U.S.C. 4031), the staged reductions in duty that the President determined to be necessary or appropriate to carry out or apply articles 3.3, 3.5, 3.6, 3.21, 3.26, 3.27, and 3.28, and Annexes 3.3 (including the schedule of United States duty reductions with respect to originating goods), 3.27, and 3.28 of the CAFTA-DR.

The United States, Costa Rica, the Dominican Republic, El Salvador, Guatemala, Honduras, and Nicaragua (CAFTA-DR countries) are parties to the Convention. Because changes to the Convention are reflected in slight differences of form between the national tariff schedules of the United States and the other CAFTA-DR countries, Annexes 4.1, 3.25, and 3.29 of the CAFTA-DR must be changed to ensure that the tariff and certain other treatment accorded under the CAFTA-DR to originating goods will continue to be provided under the tariff categories that were proclaimed in Proclamation 7987. The United States and the other CAFTA-DR countries have agreed to make these changes.

Section 201 of the CAFTA-DR Implementation Act authorizes the President to proclaim such modifications or continuation of any duty, such continuation of duty-free or excise treatment, or such additional duties, as the President determines to be necessary or appropriate to carry out or apply articles 3.3, 3.5, 3.6, 3.21, 3.26, 3.27, and 3.28, and Annexes 3.3 (including the schedule of United States duty reductions with respect to originating goods), 3.27, and 3.28 of the CAFTA-DR.

In Proclamation 9555 of December 15, 2016, pursuant to section 201 of the CAFTA-DR Implementation Act and section 1206(a) of the 1988 Act (19 U.S.C. 3006(a)), the President proclaimed certain modifications to the HTSUS (see Proclamation 9555, paragraph (11)), and further proclaimed that the modifications would become effective on the date to be announced by the U.S. Trade Representative in the Federal Register, after the applicable conditions set forth in the CAFTA-DR have been fulfilled. The modifications are effective with respect to goods entered for consumption, or withdrawn from warehouse for consumption, on or after that date. See Proclamation 9555, paragraph (12). The modifications are set out in Annex V of Proclamation 9555.

In Proclamation 9687 of December 22, 2017, pursuant to section 201 of the CAFTA-DR Implementation Act and section 1206(a) of the 1988 Act (19 U.S.C. 3006(a)), the President proclaimed certain modifications to the HTSUS (see Proclamation 9687, paragraph (6)), and further proclaimed that the modifications would become effective on the date to be announced by the U.S. Trade Representative in the Federal Register, after the applicable conditions set forth in the CAFTA-DR have been fulfilled. The modifications are effective with respect to goods entered for consumption, or withdrawn from warehouse for consumption, on or after that date. See Proclamation 9687, paragraph (7). The modifications are set out in Annex II of Proclamation 9687.

B. Announcement of the Effective Date of Modifications to the HTSUS Pursuant to Proclamation 9555 and Proclamation 9687

The U.S. Trade Representative is announcing that the conditions referenced in paragraph (12) of Proclamation 9555 and paragraph (7) of Proclamation 9687 have been fulfilled and that the modifications set out in Annex V of Proclamation 9555 and Annex II of Proclamation 9687 will take effect on November 1, 2020, with respect to goods entered for consumption, or withdrawn from warehouse for consumption, on or after that date.

Joseph Barloon,
General Counsel, Office of the United States Trade Representative.

[FR Doc. 2020-19507 Filed 9-2-20; 8:45 am]

BILLING CODE 3290-F0-P